DEPARTMENT OF COMMERCE

National Oceanic and Atmospheric Administration

[RTID 0648-XD303]

North Pacific Fishery Management Council; Public Meeting

AGENCY: National Marine Fisheries Service (NMFS), National Oceanic and Atmospheric Administration (NOAA), Commerce.

ACTION: Notice of a hybrid meeting.

SUMMARY: The North Pacific Fishery Management Council's (Council) Partial Coverage Fishery Monitoring Advisory Committee (PCFMAC) will hold a meeting. See SUPPLEMENTARY INFORMATION for agenda.

DATES: The meeting will be held on Thursday, September 14, 2023, from 8:30 a.m. to 4:30 p.m., Alaska Time.

ADDRESSES: The meeting will be a hybrid meeting. For members attending in Seattle, the in-person component of the meeting will be held at the Alaska Fishery Science Center in room 2079, 7600 Sand Point Way NE, Building 4, Seattle, WA 98115, if you plan to attend in-person you need to notify Sara Cleaver (sara.cleaver@noaa.gov) at least two days prior to the meeting (or two weeks prior if you are a foreign national). You will also need a valid U.S. Identification Card. For members attending in Anchorage, the in-person component of the meeting will be held at the North Pacific Fishery Management Council office, 1007 W 3rd Ave., Suite 400, Anchorage, AK 99501. If you are attending virtually, join the meeting online through the link at https://meetings.npfmc.org/Meeting/Details/3007.

Council address: North Pacific Fishery Management Council, 1007 W 3rd Ave., Anchorage, AK 99501-2252; telephone: (907) 271-2809. Instructions for attending the meeting are given under SUPPLEMENTARY INFORMATION, below.

FOR FURTHER INFORMATION CONTACT: Sara Cleaver, Council staff; telephone: (907) 271-2809; email: sara.cleaver@noaa.gov. For technical support, please contact our administrative staff; email: npfmc.admin@noaa.gov.

SUPPLEMENTARY INFORMATION:

Agenda

Thursday, September 14, 2023

The PCFMAC agenda will include: (a) review draft 2024 ADP; (b) proposals on multiple observer provider options; (c) public comment; and (d) other issues and future scheduling. The agenda is subject to change, and the latest version will be posted at https://meetings.npfmc.org/Meeting/Details/3007 prior to the meeting, along with meeting materials.

Connection Information

You can attend the meeting online using a computer, tablet, or smartphone; or by phone only. Connection information will be posted online at: https://meetings.npfmc.org/Meeting/Details/3007.

Public Comment

Public comment letters should be submitted electronically via the electronic agenda at https://meetings.npfmc.org/Meeting/Details/3007.

Authority: 16 U.S.C. 1801 et seq.

Dated: August 29, 2023.
Rey Israel Marquez,
Acting Deputy Director, Office of Sustainable Fisheries, National Marine Fisheries Service.

[FR Doc. 2023-18983 Filed 8-31-23; 8:45 am]

BILLING CODE 3510-22-P